DEPARTMENT OF ENERGY

Federal Energy Regulatory Commission

Combined Notice of Filings #1

Take notice that the Commission received the following electric corporate filings:

Docket Numbers: EC13-92-000.

Applicants: Alta Wind X, LLC, Alta Wind XI, LLC, Alta Windpower Development, LLC.

Description: Application for Authorization for Disposition of Jurisdictional Facilities and Request for Expedited Action of Alta Wind X, LLC, et al.

Filed Date: 4/15/13.

Accession Number: 20130415-5207.

Comments Due: 5 p.m. ET 5/6/13.

Take notice that the Commission received the following electric rate filings:

Docket Numbers: ER12-2643-002.

Applicants: California Independent System Operator Corporation.

Description: 2013—04-15 Compliance Filing re RA Deliverability for Distributed Generation to be effective 11/18/2012.

Filed Date: 4/15/13.

Accession Number: 20130415-5170.

Comments Due: 5 p.m. ET 5/6/13.

Docket Numbers: ER13-1007-001.

Applicants: Midwest Independent Transmission System Operator, Inc.

Description: 04-16-2013 SA 2507 ITC-Interstate E&P Errata to be effective 3/1/2013.

Filed Date: 4/16/13.

Accession Number: 20130416-5119.

Comments Due: 5 p.m. ET 5/7/13.

Docket Numbers: ER13-1285-000.

Applicants: Pacific Gas and Electric Company.

Description: WPA under Comprehensive Agreement between PG&E and DWR to be effective 4/16/2013.

Filed Date: 4/15/13.

Accession Number: 20130415-5146.

Comments Due: 5 p.m. ET 5/6/13.

Docket Numbers: ER13-1286-000.

Applicants: Midwest Independent Transmission System Operator, Inc.

Description: 04-15-2013 SA 2455 DEGS Wind-METC Termination to be effective 6/14/2013.

Filed Date: 4/15/13.

Accession Number: 20130415-5152.

Comments Due: 5 p.m. ET 5/6/13.

Docket Numbers: ER13-1287-000.

Applicants: Lakeside Beaver Falls LLC.

Description: Baseline new to be effective 4/15/2013.

Filed Date: 4/15/13.

Accession Number: 20130415-5169.

Comments Due: 5 p.m. ET 5/6/13.

Docket Numbers: ER13-1287-001; ER13-1288-001; ER11-4634-001.

Applicants: Lakeside Beaver Falls LLC, Lakeside Syracuse LLC, Hazleton Generation LLC.

Description: Notice of Non-Material Change in Status of Lakeside Beaver Falls LLC, et al.

Filed Date: 4/15/13.

Accession Number: 20130416-5137.

Comments Due: 5 p.m. ET 5/6/13.

Docket Numbers: ER13-1288-000.

Applicants: Lakeside Syracuse LLC.

Description: Baseline new to be effective 4/15/2013.

Filed Date: 4/15/13.

Accession Number: 20130415-5172.

Comments Due: 5 p.m. ET 5/6/13.

Docket Numbers: ER13-1289-000.

Applicants: Lakeside Syracuse LLC.

Description: Cancellation to be effective 4/15/2013.

Filed Date: 4/15/13.

Accession Number: 20130415-5178.

Comments Due: 5 p.m. ET 5/6/13.

Docket Numbers: ER13-1290-000.

Applicants: Lakeside Beaver Falls LLC.

Description: Cancellation to be effective 4/15/2013.

Filed Date: 4/15/13.

Accession Number: 20130415-5186.

Comments Due: 5 p.m. ET 5/6/13.

Docket Numbers: ER13-1291-000.

Applicants: Dominion Energy Marketing, Inc.

Description: Dominion Energy Marketing, Inc. submits Request for Additional Cost Recovery under Section III.A.15, Appendix A to the ISO New England Inc. Tariff.

Filed Date: 4/15/13.

Accession Number: 20130415-5202.

Comments Due: 5 p.m. ET 5/6/13.

Docket Numbers: ER13-1292-000.

Applicants: Southwest Power Pool, Inc.

Description: Compliance Filing to Order No. 764 to be effective 6/16/2013.

Filed Date: 4/16/13.

Accession Number: 20130416-5005.

Comments Due: 5 p.m. ET 5/7/13.

Docket Numbers: ER13-1293-000.

Applicants: Midwest Independent Transmission System Operator, Inc.

Description: 04-16-2013 SA 2517 DTE Electric-ITC E&P to be effective 4/17/2013.

Filed Date: 4/16/13.

Accession Number: 20130416-5006.

Comments Due: 5 p.m. ET 5/7/13.

Docket Numbers: ER13-1294-000.

Applicants: Southwest Power Pool, Inc.

Description: 1154R8 Associated Electric Cooperative NITSA and NOA to be effective 3/17/2013.

Filed Date: 4/16/13.

Accession Number: 20130416-5020.

Comments Due: 5 p.m. ET 5/7/13.

Docket Numbers: ER13-1295-000.

Applicants: WestConnect.

Description: WestConnect Point-to-Point Regional Transmission Service Participation Agreement to be effective 7/1/2013.

Filed Date: 4/16/13.

Accession Number: 20130416-5049.

Comments Due: 5 p.m. ET 5/7/13.

Docket Numbers: ER13-1296-000.

Applicants: Arizona Public Service Company.

Description: WestConnect Regional Point-to-Point Transmission Service Tariff to be effective 7/1/2013.

Filed Date: 4/16/13.

Accession Number: 20130416-5058.

Comments Due: 5 p.m. ET 5/7/13.

Docket Numbers: ER13-1297-000.

Applicants: Arizona Public Service Company.

Description: Cancellation of APS Rate Schedule No. 257—Foothills Solar E&P Agreement to be effective 6/14/2013.

Filed Date: 4/16/13.

Accession Number: 20130416-5090.

Comments Due: 5 p.m. ET 5/7/13.

Docket Numbers: ER13-1298-000.

Applicants: Mega Energy Holdings LLC.

Description: Baseline New to be effective 5/1/2013.

Filed Date: 4/16/13.

Accession Number: 20130416-5118.

Comments Due: 5 p.m. ET 5/7/13.

Docket Numbers: ER13-1299-000.

Applicants: PacifiCorp.

Description: BPA AC Intertie O&M Agreement to be effective 9/22/2010.

Filed Date: 4/16/13.

Accession Number: 20130416-5129.

Comments Due: 5 p.m. ET 5/7/13.

Take notice that the Commission received the following open access transmission tariff filings:

Docket Numbers: OA09-22-005.

Applicants: Florida Power & Light Company.

Description: Annual Compliance Report Regarding Penalties for Unreserved Use of Florida Power & Light Company.

Filed Date: 4/15/13.

Accession Number: 20130415-5200.

Comments Due: 5 p.m. ET 5/6/13.

Docket Numbers: OA13-4-000.

Applicants: Midwest Independent Transmission System Operator, Inc.

Description: Midwest Independent Transmission System Operator, Inc. submits Informational Filing Regarding Unreserved Use and Late Study Penalties in 2010, 2011 and 2012.

Filed Date: 4/15/13.

Accession Number: 20130415-5216.

Comments Due: 5 p.m. ET 5/6/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 16, 2013.
Nathaniel J. Davis, Sr.,
Deputy Secretary.

[FR Doc. 2013-09644 Filed 4-23-13; 8:45 am]

BILLING CODE 6717-01-P